SMALL BUSINESS ADMINISTRATION

[Disaster Declaration #16662 and #16663; California Disaster Number CA-00327]

Presidential Declaration Amendment of a Major Disaster for Public Assistance Only for the State of California

AGENCY: U.S. Small Business Administration.

ACTION: Amendment 4.

SUMMARY: This is an amendment of the Presidential declaration of a major disaster for Public Assistance Only for the State of California (FEMA-4558-DR), dated 08/22/2020.

Incident: Wildfires.

Incident Period: 08/14/2020 through 09/26/2020.

DATES: Issued on 10/18/2020.

Physical Loan Application Deadline Date: 10/21/2020.

Economic Injury (EIDL) Loan Application Deadline Date: 05/24/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of California, dated 08/22/2020, is hereby amended to include the following areas as adversely affected by the disaster.

Primary Counties: Sierra, Trinity, Tuolumne.

All other information in the original declaration remains unchanged.

(Catalog of Federal Domestic Assistance Number 59008)

Cynthia Pitts,
Acting Associate Administrator for Disaster Assistance.

[FR Doc. 2020-23478 Filed 10-22-20; 8:45 am]

BILLING CODE 8026-03-P